DEPARTMENT OF DEFENSE

Office of the Secretary

[Docket ID: DoD-2015-OS-0023]

Privacy Act of 1974; System of Records

AGENCY: United States European Command, DoD.

ACTION: Notice to add a new system of records.

SUMMARY: The United States European Command proposes to add a new system of records, AEUCOM 01, entitled “United States European Command (USEUCOM) Security Clearance Database” in its existing inventory of records systems subject to the Privacy Act of 1974, as amended. This system will be used to verify current access for personnel assigned to or visiting USEUCOM. It will also be used as an electronic request manager for scheduling Sensitive Compartmented Information indoctrinations, issuing badges, requesting access to spaces, and processing clearance certifications for visitors to USEUCOM or for USEUCOM personnel visiting other organizations.

DATES: Comments will be accepted on or before April 23, 2015. This proposed action will be effective the day following the end of the comment period unless comments are received which result in a contrary determination.

ADDRESSES: You may submit comments, identified by dock number and title, by any of the following methods:

• Federal Rulemaking Portal: http://www.regulations.gov.

Follow the instructions for submitting comments.

• Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Mayra Lazala-Stock, USEUCOM FOIA/PA Support Specialist, USEUCOM, Unit 30400, APO AE 09131-0400, telephone: 011-49-711-680-7161.

SUPPLEMENTARY INFORMATION: The United States European Command notices for systems of records subject to the Privacy Act of 1974 (5 U.S.C. 552a), as amended, have been published in the Federal Register and are available from FOR FURTHER INFORMATION CONTACT or from the Defense Privacy and Civil Liberties Division Web site at http://dpcld.defense.gov.

The proposed systems reports, as required by 5 U.S.C. 552a(r) of the Privacy Act, were submitted on January 27, 2015, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: March 19, 2015.
Aaron Siegel,
Alternate OSD Federal Register Liaison Officer, Department of Defense.

AEUCOM 01

System name:

United States European Command (USEUCOM) Security Clearance Database

System location:

ECJ6 HQ USEUCOM, Patch Barracks Stuttgart, Unit 30400, APO, AE 09131-0400, Germany

Categories of individuals covered by the system:

U.S. Department of Defense Active Duty, Reserve, National Guard, Civilian personnel and NATO partner nation personnel, U.S. Government civilian employees from all executive departments, government contractor employees and consultants, and other civilian personnel who require access to classified information or to spaces accredited for such information at Headquarters USEUCOM or subordinate commands.

Categories of records in the system:

Subject affiliation with USEUCOM (visitor, contractor, permanent, etc.); level of security clearance; level of access; full name; Department of Defense ID number, Social Security Number (SSN) or foreign ID; service or agency that the subject is affiliated with; company; contract number; arrival and departure dates; information about visit; permanent certifications; indoctrination assistance requests executed between USEUCOM and other organization Special Security Officers or Security Managers; date and place of birth; citizenship status; USEUCOM directorate and division affiliation including office phone number; records of current background investigation including type, adjudication date, and adjudicating authority; dates of nondisclosure agreements, statements, attestations, and other oaths that have been executed; U.S. collateral, Sensitive Compartmented Information (SCI), and NATO access levels granted by USEUCOM with applicable dates; records of USEUCOM issued security badges and building access requests with approvals; and other security related items of interest to include dates for polygraphs and security awareness training.

Authority for maintenance of the system:

50 U.S.C. 401, Congressional declaration of purpose; 50 U.S.C. 435, Procedures; DoD 5200.2-R, Department of Defense Personnel Security Program Regulation; DoD Manual 5105.21 Volume 1, Sensitive Compartmented Information Administrative Security Manual; E.O. 10450, Security Requirements for Government Employment; E.O. 10865, Safeguarding Classified Information Within Industry; E.O. 12333, United States Intelligence Activities; E.O. 12829, National Industrial Security Program; E.O. 12968, Access to Classified Information; and E.O. 9397 (SSN), as amended.

Purpose(s):

The primary use of the system will be to verify current access for personnel assigned to or visiting USEUCOM. It will also be used as an electronic request manager for scheduling SCI Indoctrinations, issuing badges, requesting access to spaces, and processing clearance certifications both for visitors to USEUCOM or for USEUCOM personnel visiting other organizations.

Routine uses of records maintained in the system, including categories of users and the purposes of such uses:

In addition to those disclosures generally permitted under 5 U.S.C. 552a(b) of the Privacy Act of 1974, as amended, the records contained herein may specifically be disclosed outside the DoD as a routine use pursuant to 5 U.S.C. 552a(b)(3) as follows:

The DoD Blanket Routine Uses set forth at the beginning of the DoD compilation of system of records notices may apply to this system. The complete list of DoD blanket routine uses can be found online at: http://dpcld.defense.gov/Privacy/SORNsIndex/BlanketRoutineUses.aspx.

Policies and practices for storing, retrieving, accessing, retaining, and disposing of records in the system:

Storage:

Electronic storage media.

Retrievability:

Information is retrieved by name, SSN or foreign ID, rank, service, directorate, or the current access level of security clearance.

Safeguards:

Electronically and optically stored records are maintained in a Secret Internet Protocol Router Network (SIPRNET) system with password-protected access. Within SIPRNET, the database requires an additional log in. Records are accessible only to authorized persons with a valid need-to-know, who are appropriately screened, investigated, determined eligible for access, and who have been assigned to ECJ2-Special Security Office (SSO) or appointed as a Security Manager or Special Security Representative in writing. Additionally, access to the SSO Database is based on a user's specific functions, security eligibility and access level.

Retention and disposal:

Records are destroyed in accordance with the JCSM 5760.01 Vol. II, 10 March 2003, disposition instructions for file number 0300-02: destroy/delete after 3 years.

System manager(s) and address:

IT Services Manager, HQ USEUCOM ECJ6, Unit 30400, APO AE 09131-0400.

Notification procedure:

Individuals seeking to determine whether information about them is contained in this system should address written inquiries to Headquarters, U.S. European Command, Attn: ECJ2-SSO, Unit 30400, APO AE 09131-0400.

Individuals should provide their full name (and any alias and/or alternate names used), SSN or foreign ID, and date and place of birth.

In addition, the requester must provide a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

Attorneys or other persons acting on behalf of an individual must provide written authorization from that individual for their representative to act on their behalf.

Record access procedures:

Individuals seeking access to information about themselves contained in this system should address written inquiries to Headquarters, U.S. European Command, Attn: ECJ2-SSO, Unit 30400, APO AE 09131-0400.

Individuals should provide their full name (and any alias and/or alternate names used), SSN or foreign ID, and date and place of birth.

In addition, the requester must provide a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

Attorneys or other persons acting on behalf of an individual must provide written authorization from that individual for their representative to act on their behalf.

Contesting record procedures:

The USEUCOM rules for accessing records, for contesting and appealing initial agency determinations may be obtained from the system manager.

Record source categories:

Information contained in this system is derived from the Joint Personnel Adjudication System (JPAS); Scattered Castles Database; the Office of Personnel Management's Electronic Questionnaire Investigation Portal (eQIP); records maintained by the DoD adjudicative agencies; and records maintained by security managers, special security officers, or other officials requesting and/or sponsoring the security eligibility determination for the individual.

Exemptions claimed for the system:

None.

[FR Doc. 2015-06665 Filed 3-23-15; 8:45 am]

BILLING CODE 5001-06-P